UNIFIED CARRIER REGISTRATION PLAN

Sunshine Act Meetings

TIME AND DATE: February 1, 2024, 12:00 p.m. to 1:30 p.m., Eastern Time.

PLACE: This meeting will be accessible via conference call and via Zoom Meeting and Screenshare. Any interested person may call (i) 1-929-205-6099 (US Toll) or 1-669-900-6833 (US Toll), Meeting ID: 937 1981 0934, to listen and participate in this meeting. The website to participate via Zoom Meeting and Screenshare is https://kellen.zoom.us/meeting/register/tJcqduCgrzsjGdA0qxGd_B_Gu7JOUbF6t_ol.

STATUS: Portions of this meeting will be open to the public. A portion of this meeting will be closed to the public.

MATTERS TO BE CONSIDERED: The Unified Carrier Registration Plan Board of Directors (the “Board”) will continue its work in developing and implementing the Unified Carrier Registration Plan and Agreement. The subject matter of this meeting will include:

Proposed Agenda

Portions Open to the Public

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

Agenda will be reviewed and the Board will consider adoption.

Ground Rules

➢ Board actions taken only in designated areas on agenda

Portion Closed to the Public

Pursuant to the Government in the Sunshine Act at 5 U.S.C. 552b(d)(1), the Board must now vote to approve closing the portion of the meeting dealing with item IV on the agenda.

The Chief Legal Officer has advised that the Board may close this portion of this meeting pursuant to Government in the Sunshine Act exemptions (9)(B) and (10). By approving this action, the Board determines that public participation would likely disclose information for which premature disclosure would likely frustrate implementation of a proposed agency action and/or specifically concern the discussion of information, the premature disclosure of which would likely negatively impact the agency's participation in an ongoing civil action or proceeding. Therefore, by approving this action, the Board is invoking Exemptions (9)(B) and (10) to close this portion of the meeting (5 U.S.C. 552b(c)(9)(B) and (10)).

A copy of the vote on the closure of this portion of this meeting shall be made publicly available on the Unified Carrier Registration Plan website within one day of the vote taken herein (https://plan.ucr.gov).

IV. Discussion and Possible UCR Board Action Concerning the ICANN Domain Name Dispute With Uliana Bogash/Excelsior Enterprises International, Inc.

—UCR Chief Legal Officer

For Discussion and Possible Action

The UCR Chief Legal Officer will discuss the recent adverse decision of the 3-person panel against the UCR in the ICANN domain name dispute initiated by the UCR against Uliana Bogash/Excelsior Enterprises International, Inc. The UCR Chief Legal Officer will also discuss the legal and financial options available to the UCR in responding to the letter received on January 17, 2024 from legal counsel to Ms. Bogash/EEI demanding reimbursement by the UCR of the legal and ICANN proceeding expenses incurred by Ms.Bogash/EEI in responding to the ICANN domain name dispute initiated by the UCR. The Board may vote to authorize legal and/or financial responses to the January 17, 2024 demand letter.

Portions Open to the Public

V. Other Business—UCR Board Chair

The UCR Board Chair will call for any business, old or new, from the floor.

VI. Adjournment—UCR Board Chair

The UCR Board Chair will adjourn the meeting.

The agenda will be available no later than 5:00 p.m. Eastern time, January 25, 2024, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-01927 Filed 1-26-24; 4:15 pm]

BILLING CODE 4910-YL-P